SMALL BUSINESS ADMINISTRATION

[Disaster Declaration #14856]

Montana Disaster #MT-00099 Declaration of Economic Injury

AGENCY: U.S. Small Business Administration.

ACTION: Amendment 1.

SUMMARY: This is an amendment of the Economic Injury Disaster Loan (EIDL) declaration for the State of Montana, dated 09/20/2016.

Incident: River Conditions Resulting in the Closure of the Yellowstone River.

Incident Period: 08/19/2016 through 09/22/2016.

Effective Date: 04/28/2017.

EIDL Loan Application Deadline Date: 06/20/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of an Economic Injury declaration for the State of MONTANA dated 09/20/2016 is hereby amended to establish the incident period for this disaster as beginning 08/19/2016 and continuing through 09/22/2016.

All other information in the original declaration remains unchanged.

(Catalog of Federal Domestic Assistance Number 59008)

Dated: April 28, 2017.
Linda E. McMahon,
Administrator.

[FR Doc. 2017-09064 Filed 5-4-17; 8:45 am]

BILLING CODE 8025-01-P